DEPARTMENT OF ENERGY

Federal Energy Regulatory Commission

[Docket No. EG01-313-000, et al.]

Eagle Point Cogeneration Partnership, et al.; Electric Rate and Corporate Regulation Filings

September 18, 2001.

Take notice that the following filings have been made with the Commission:

1. Eagle Point Cogeneration Partnership

[Docket No. EG01-313-000]

Take notice that on September 14, 2001, Eagle Point Cogeneration Partnership (Eagle Point), a New Jersey general partnership with its principal place of business in Houston, Texas, filed with the Federal Energy Regulatory Commission an application for determination of exempt wholesale generator status pursuant to Part 365 of the Commission's regulations.

Eagle Point owns and operates an approximate 225 MW natural gas-fired, combined-cycle, independent power production facility in Westville, County of West Deptford, New Jersey (the Facility). Electric energy produced by the Facility will be sold by Eagle Point to the wholesale power market in the PJM.

Comment date: October 9, 2001, in accordance with Standard Paragraph E at the end of this notice. The Commission will limit its consideration of comments to those that concern the adequacy or accuracy of the application.

2. Cambridge Electric Light Company

[Docket Nos. ER94-1409-005 and EL94-88-005]

Take notice that, on September 13, 2001, Cambridge Electric Light Company (Cambridge) filed an Interim Refund Report in the referenced dockets.

Comment date: October 5, 2001, in accordance with Standard Paragraph E at the end of this notice.

3. Arizona Public Service Company, El Paso Electric Company, Public Service Company of New Mexico, and Southern California Edison Company

[Docket No. ER00-3752-001]

Take notice that on September 14, 2001, Arizona Public Service Company, El Paso Electric Company, Public Service Company of New Mexico, and Southern California Edison Company tendered for filing the First Addendum to the Funding Agreement for the Development of a Satellite Switchyard to the ANPP High Voltage Switchyard Between Participating Interconnectors and Salt River Project Agricultural Improvement and Power District.

Comment date: October 5, 2001, in accordance with Standard Paragraph E at the end of this notice.

4. Illinois Power Company

[Docket Nos. ER01-1592-002, ER01-1598-002 and ER01-1706-002]

Take notice that on September 14, 2001, Illinois Power Company (Illinois Power), 500 South 27th Street, Decatur, Illinois 65251-2200, filed with the Federal Energy Regulatory Commission (Commission) service agreement designations as required by the Commission's Order No. 614 and the Letter Order issued on August 22, 2001 in these dockets.

Comment date: October 5, 2001, in accordance with Standard Paragraph E at the end of this notice.

5. PacifiCorp

[Docket No. ER01-2292-000]

Take notice that on September 13, 2001, PacifiCorp tendered for filing with the Federal Energy Regulatory Commission (Commission) in accordance with 18 CFR Part 35 of the Commission's Rules and Regulations, a request to withdraw PacifiCorp's filing under FERC Docket No. ER01-2292-000 and to terminate all future actions under this docket.

Copies of this filing were supplied to the Washington Utilities and Transportation Commission and the Public Utility Commission of Oregon.

Comment date: October 4, 2001, in accordance with Standard Paragraph E at the end of this notice.

6. PJM Interconnection, L.L.C.

[Docket No. ER01-3051-000]

Take notice that on September 13, 2001, PJM Interconnection, L.L.C. (PJM) tendered for filing an amendment to section 15.2 of the Amended and Restated Operating Agreement of PJM Interconnection, L.L.C. (Operating Agreement). The proposed amendment clarifies that PJM Members that pay a Weighed Interest assessment shall be creditors of the defaulting PJM Member causing the assessment. Additionally, the proposal establishes a mechanism for the PJM Members to appoint PJM as their agent for collection.

PJM requests that the amendments be made effective on September 14, 2001.

Copies of this filing were served upon all PJM members, each state electric utility regulatory commission and each State Consumer Advocate in the PJM control area.

Comment date: October 4, 2001, in accordance with Standard Paragraph E at the end of this notice.

7. Western Resources, Inc.

[Docket No. ER01-3052-000]

Take notice that on September 13, 2001, Western Resources, Inc. (WR) tendered for filing with the Federal Energy Regulatory Commission (Commission) a Service Agreement between WR and Wisconsin Public Service Corp. (WPSC) and a Service Agreement between WR and the American Municipal Power—Ohio (AMP). WR states that the purpose of these agreements is to permit WPSC and AMP to take service under WR's Market Based Power Sales Tariff on file with the Commission.

These agreements are proposed to be effective August 13, 2001.

Copies of the filing were served upon WPSC, AMP and the Kansas Corporation Commission.

Comment date: October 4, 2001, in accordance with Standard Paragraph E at the end of this notice.

8. Midwest Independent Transmission System Operator, Inc.

[Docket No. ER01-3053-000]

Take notice that on September 13, 2001, the Midwest Independent Transmission System Operator, Inc. (Midwest ISO) tendered for filing its Generator Interconnection Procedures and Agreement as Attachment R to the Midwest ISO Open Access Transmission Tariff.

The Midwest ISO requests that the amendments become effective November 13, 2001.

Copies of this filing were electronically served upon Midwest ISO Members, Member representatives of Transmission Owners and Non-Transmission Owners, the Midwest ISO Advisory Committee participants, Policy Subcommittee participants, as well as all state commissions within the region.

Comment date: October 4, 2001, in accordance with Standard Paragraph E at the end of this notice.

9. Southern Company Services, Inc.

[Docket No. ER01-3054-000]

Take notice that on September 14, 2001, Southern Company Services, Inc. (SCS), acting on behalf of Alabama Power Company, Georgia Power Company, Gulf Power Company, Mississippi Power Company, and Savannah Electric and Power Company (collectively referred to as Southern Company), filed the following service agreements under the Open Access Transmission Tariff (Tariff) of Southern Company (FERC Electric Tariff, Fourth Revised Volume No. 5): (I) one (1) long-term firm point-to-point transmission service agreement between SCS, as agent for Southern Company, and Southern Company Generation and Energy Marketing (OASIS Requests 178070, 178071, 178072, 178073); (II) two (2) short-term firm point-to-point transmission service agreements between SCS, as agent for Southern Company, and the following entities: (i) Entergy-Koch Trading, LP and (ii) Topaz Energy Associates, LLC; and (III) two (2) non-firm point-to-point transmission service agreements between SCS, as agent for Southern Company and the following entities: (i) Entergy-Koch Trading, LP and (ii) Topaz Energy Associates, LLC.

Comment date: October 5, 2001, in accordance with Standard Paragraph E at the end of this notice.

10. Eagle Point Cogeneration Partnership

[Docket No. ER01-3055-000]

Take notice that on September 14, 2001, Eagle Point Cogeneration Partnership (Eagle Point), filed with the Federal Energy Regulatory Commission (Commission) an application for approval of its initial rate schedule (FERC Electric Tariff Original Volume No. 1), and for blanket approval for market-based rates pursuant to Part 35 of the Commission's regulations.

Eagle Point is a partnership that owns and operates a 225-MW generating plant located in Westville, Town of West Deptford, New Jersey.

Comment date: October 5, 2001, in accordance with Standard Paragraph E at the end of this notice.

11. Cedar Brakes III, L.L.C.

[Docket No. ER01-3056-000]

Take notice that on September 14, 2001, Cedar Brakes III, L.L.C. (CBIII), filed with the Federal Energy Regulatory Commission (Commission) an application for approval of its initial rate schedule (FERC Electric Tariff Original Volume No. 1), and for blanket approval for market-based rates pursuant to Part 35 of the Commission's regulations.

CBIII is a limited liability company formed under the laws of Delaware. CBIII does not own any generating facilities.

Comment date: October 5, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-23840 Filed 9-24-01; 8:45 am]

BILLING CODE 6717-01-P